DEPARTMENT OF COMMERCE

Foreign-Trade Zones Board

[Order No. 1374]

Expansion of Foreign-Trade Zone 24, Pittston, PA

Pursuant to its authority under the Foreign-Trade Zones Act of June 18, 1934, as amended (19 U.S.C. 81a-81u), the Foreign-Trade Zones Board (the Board) adopts the following Order:

Whereas, the Eastern Distribution Center, Inc., grantee of FTZ 24, submitted an application to the Board for authority to expand the zone to include a site at the Valley View Business Park/Jessup Small Business Center (1,076 acres, Site 2) in the Boroughs of Jessup and Archbald, Pennsylvania, within the Wilkes-Barre/Scranton Customs port of entry (FTZ Docket 9-2004; filed 3/11/04);

Whereas, notice inviting public comment was given in the Federal Register (69 FR 13284, 3/22/04) and the application has been processed pursuant to the FTZ Act and the Board's regulations; and,

Whereas, the Board adopts the findings and recommendations of the examiner's report, and finds that the requirements of the FTZ Act and Board's regulations are satisfied, and that the proposal is in the public interest;

Now, therefore, the Board hereby orders:

The application to expand FTZ 24 is approved, subject to the Act and the Board's regulations, including section 400.28.

Signed in Washington, DC, this 9th day of February, 2005.
Joseph A. Spetrini,
Acting Assistant Secretary of Commerce for Import Administration, Alternate Chairman, Foreign-Trade Zones Board.
Attest:
Dennis Puccinelli,
Executive Secretary.

[FR Doc. 05-3806 Filed 2-25-05; 8:45 am]

BILLING CODE 3510-DS-P